Executive Order 14236 of March 14, 2025

Additional Rescissions of Harmful Executive Orders and Actions

By the authority vested in me as President by the Constitution and the laws of the United States of America, it is hereby ordered:

Section 1. Purpose. In Executive Order 14148 of January 20, 2025 (Initial Rescissions of Harmful Executive Orders and Actions), I rescinded 78 Presidential orders and memoranda issued by then-President Biden. I also directed the Assistant to the President for Domestic Policy, the Assistant to the President for Economic Policy, and the Assistant to the President for National Security Affairs to compile lists of additional orders, memoranda, and proclamations issued by the prior administration that should be rescinded. I have determined that the following additional rescissions are necessary to advance the policy of the United States to restore common sense to the Federal Government and unleash the potential of American citizens.

Sec. 2. Revocation of Orders and Actions. The following executive actions are hereby revoked:

(a) Executive Order 13994 of January 21, 2021 (Ensuring a Data-Driven Response to COVID-19 and Future High-Consequence Public Health Threats).

(b) National Security Memorandum 3 of February 4, 2021 (Revitalizing America's Foreign Policy and National Security Workforce, Institutions, and Partnerships).

(c) Presidential Memorandum of February 4, 2021 (Advancing the Human Rights of Lesbian, Gay, Bisexual, Transgender, Queer, and Intersex Persons Around the World).

(d) Executive Order 14026 of April 27, 2021 (Increasing the Minimum Wage for Federal Contractors).

(e) Presidential Memorandum of March 31, 2022 (Finding of a Severe Energy Supply Interruption).

(f) Presidential Determination 2022-13 of May 18, 2022 (Delegating Authority Under the Defense Production Act to Ensure an Adequate Supply of Infant Formula).

(g) Presidential Determination 2022-15 of June 6, 2022 (Presidential Determination Pursuant to Section 303 of the Defense Production Act of 1950, as amended, on Solar Photovoltaic Modules and Module Components).

(h) Presidential Determination 2022-16 of June 6, 2022 (Presidential Determination Pursuant to Section 303 of the Defense Production Act of 1950, as amended, on Insulation).

(i) Presidential Determination 2022-17 of June 6, 2022 (Presidential Determination Pursuant to Section 303 of the Defense Production Act of 1950, as amended, on Electrolyzers, Fuel Cells, and Platinum Group Metals).

(j) Presidential Determination 2022-18 of June 6, 2022 (Presidential Determination Pursuant to Section 303 of the Defense Production Act of 1950, as amended, on Electric Heat Pumps).

(k) Executive Order 14081 of September 12, 2022 (Advancing Biotechnology and Biomanufacturing Innovation for a Sustainable, Safe, and Secure American Bioeconomy).

(l) Presidential Memorandum of January 17, 2023 (Delegation of Authority Under Section 6501(b)(2) of the National Defense Authorization Act for Fiscal Year 2022).

(m) National Security Memorandum 18 of February 23, 2023 (United States Conventional Arms Transfer Policy).

(n) Presidential Memorandum of February 27, 2023 (Presidential Waiver of Statutory Requirements Pursuant to Section 303 of the Defense Production Act of 1950, as amended, on Department of Defense Supply Chains Resilience).

(o) Presidential Memorandum of November 16, 2023 (Advancing Worker Empowerment, Rights, and High Labor Standards Globally).

(p) Executive Order 14112 of December 6, 2023 (Reforming Federal Funding and Support for Tribal Nations to Better Embrace Our Trust Responsibilities and Promote the Next Era of Tribal Self-Determination).

(q) Executive Order 14119 of March 6, 2024 (Scaling and Expanding the Use of Registered Apprenticeships in Industries and the Federal Government and Promoting Labor-Management Forums).

(r) Executive Order 14126 of September 6, 2024 (Investing in America and Investing in American Workers).

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 14, 2025.

[FR Doc. 2025-04866

Filed 3-19-25; 8:45 am]

Billing code 3395-F4-P